DEPARTMENT OF ENERGY

Federal Energy Regulatory Commission

Combined Notice of Filings

Take notice that the Commission has received the following Natural Gas Pipeline Rate and Refund Report filings:

Filings Instituting Proceedings

Docket Numbers: RP13-1094-000.

Applicants: Vector Pipeline L.P.

Description: ACA Compliance Filing Effective 10-1-2013 to be effective 10/1/2013.

Filed Date: 7/25/13.

Accession Number: 20130725-5012.

Comments Due: 5 p.m. ET 8/6/13.

Docket Numbers: RP13-1095-000.

Applicants: ANR Pipeline Company.

Description: ANR Pipeline Company submits tariff filing per 154.203: Annual Charge Adjustment 2013 to be effective 10/1/2013.

Filed Date: 7/25/13.

Accession Number: 20130725-5029.

Comments Due: 5 p.m. ET 8/6/13.

Docket Numbers: RP13-1096-000.

Applicants: ANR Storage Company.

Description: ANR Storage Company submits tariff filing per 154.203: ACA Filing 2013 to be effective 10/1/2013.

Filed Date: 7/25/13.

Accession Number: 20130725-5030.

Comments Due: 5 p.m. ET 8/6/13.

Docket Numbers: RP13-1097-000.

Applicants: Eastern Shore Natural Gas Company.

Description: Eastern Shore Natural Gas Company submits tariff filing per 154.204: Storage Tracker Filing—October 1,2012 to be effective 10/1/2012.

Filed Date: 7/25/13.

Accession Number: 20130725-5032.

Comments Due: 5 p.m. ET 8/6/13.

Docket Numbers: RP13-1098-000.

Applicants: Bison Pipeline LLC.

Description: Bison Pipeline LLC submits tariff filing per 154.203: ACA Filing 2013 to be effective 10/1/2013.

Filed Date: 7/25/13.

Accession Number: 20130725-5033.

Comments Due: 5 p.m. ET 8/6/13.

Docket Numbers: RP13-1099-000.

Applicants: Blue Lake Gas Storage Company.

Description: Blue Lake Gas Storage Company submits tariff filing per 154.203: ACA Filing 2013 to be effective 10/1/2013.

Filed Date: 7/25/13.

Accession Number: 20130725-5034.

Comments Due: 5 p.m. ET 8/6/13.

Docket Numbers: RP13-1100-000.

Applicants: Gas Transmission Northwest LLC.

Description: Gas Transmission Northwest LLC submits tariff filing per 154.203: ACA Filing 2013 to be effective 10/1/2013.

Filed Date: 7/25/13.

Accession Number: 20130725-5035.

Comments Due: 5 p.m. ET 8/6/13.

Docket Numbers: RP13-1101-000.

Applicants: Great Lakes Gas Transmission Limited Par.

Description: Great Lakes Gas Transmission Limited Partnership submits tariff filing per 154.203: ACA Filing 2013 to be effective 10/1/2013.

Filed Date: 7/25/13.

Accession Number: 20130725-5036.

Comments Due: 5 p.m. ET 8/6/13.

Docket Numbers: RP13-1102-000.

Applicants: North Baja Pipeline, LLC.

Description: North Baja Pipeline, LLC submits tariff filing per 154.203: ACA Filing 2013 to be effective 10/1/2013.

Filed Date: 7/25/13.

Accession Number: 20130725-5037.

Comments Due: 5 p.m. ET 8/6/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP10-1083-006.

Applicants: Eastern Shore Natural Gas Company.

Description: Order No. 776 Compliance Filing to be effective 10/1/2013.

Filed Date: 7/24/13.

Accession Number: 20130724-5090.

Comments Due: 5 p.m. ET 8/5/13.

Docket Numbers: RP12-813-000.

Applicants: Gulf South Pipeline Company, LP.

Description: Motion to Place Accepted and Suspended Tariff Records into Effect to be effective 7/24/2013.

Filed Date: 7/24/13.

Accession Number: 20130724-5060.

Comments Due: 5 p.m. ET 8/5/13.

Docket Numbers: RP12-814-000.

Applicants: Gulf Crossing Pipeline Company LLC.

Description: Motion to Place Accepted and Suspended Tariff Records into Effect to be effective 7/24/2013.

Filed Date: 7/24/13.

Accession Number: 20130724-5059.

Comments Due: 5 p.m. ET 8/5/13.

Docket Numbers: RP12-820-000.

Applicants: Texas Gas Transmission, LLC.

Description: Motion to Place Accepted and Suspended Tariff Records into Effect to be effective 7/24/2013.

Filed Date: 7/24/13.

Accession Number: 20130724-5061.

Comments Due: 5 p.m. ET 8/5/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2013.
Nathaniel J. Davis, Sr.,
Deputy Secretary.

[FR Doc. 2013-18659 Filed 8-1-13; 8:45 am]

BILLING CODE 6717-01-P\